DEPARTMENT OF ENERGY

Federal Energy Regulatory Commission

Combined Notice of Filings #1

Take notice that the Commission received the following electric corporate filings:

Docket Numbers: EC20-12-001.

Applicants: Gauley River Power Partners, LLC.

Description: Amendment to October 21, 2019 Application for Authorization Under Section 203 of the Federal Power Act, et al. of Gauley River Power Partners, LLC.

Filed Date: 1/30/20.

Accession Number: 20200130-5104.

Comments Due: 5 p.m. ET 2/20/20.

Take notice that the Commission received the following exempt wholesale generator filings:

Docket Numbers: EG20-72-000.

Applicants: Enel Green Power Roadrunner Solar Project II, LLC.

Description: Notice of Self-Certification of Exempt Wholesale Generator Status of Enel Green Power Roadrunner Solar Project II, LLC.

Filed Date: 1/30/20.

Accession Number: 20200130-5080.

Comments Due: 5 p.m. ET 2/20/20.

Take notice that the Commission received the following electric rate filings:

Docket Numbers: ER12-1933-010.

Applicants: Interstate Power and Light Company.

Description: Amendment to April 19, 2019 Notification of Change in Status of Interstate Power and Light Company.

Filed Date: 1/29/20.

Accession Number: 20200129-5172.

Comments Due: 5 p.m. ET 2/19/20.

Docket Numbers: ER19-1965-001.

Applicants: Alcoa Power Generating Inc.

Description: Order Nos. 845 and 845-A Compliance Filing, et al. of Alcoa Power Generating Inc.

Filed Date: 1/30/20.

Accession Number: 20200130-5103.

Comments Due: 5 p.m. ET 2/20/20.

Docket Numbers: ER20-159-001.

Applicants: Midcontinent Independent System Operator, Inc., Pioneer Transmission, LLC.

Description: Compliance filing: 2020-01-30_Pioneer Regulatory Asset Compliance Filing to be effective N/A.

Filed Date: 1/30/20.

Accession Number: 20200130-5077.

Comments Due: 5 p.m. ET 2/20/20.

Docket Numbers: ER20-498-001.

Applicants: Midcontinent Independent System Operator, Inc., Otter Tail Power Company.

Description: Tariff Amendment: 2020-01-30_SA 3382 OTP-NSPM Substitute FSA (J460) Hankinson-Wahpeton to be effective 2/1/2020.

Filed Date: 1/30/20.

Accession Number: 20200130-5107.

Comments Due: 5 p.m. ET 2/20/20.

Docket Numbers: ER20-500-001.

Applicants: Midcontinent Independent System Operator, Inc., Otter Tail Power Company.

Description: Tariff Amendment: 2020-01-30_SA 3383 OTP-Crowned Ridge Wind II Substitute FSA (G736 J442) to be effective 2/1/2020.

Filed Date: 1/30/20.

Accession Number: 20200130-5109.

Comments Due: 5 p.m. ET 2/20/20.

Docket Numbers: ER20-514-001.

Applicants: Midcontinent Independent System Operator, Inc., Otter Tail Power Company.

Description: Tariff Amendment: 2020-01-30_SA 3384 OTP-Dakota Range III Substitute FSA (J488) Hankinson-Wahpeton to be effective 2/3/2020.

Filed Date: 1/30/20.

Accession Number: 20200130-5111.

Comments Due: 5 p.m. ET 2/20/20.

Docket Numbers: ER20-515-001.

Applicants: Midcontinent Independent System Operator, Inc., Otter Tail Power Company.

Description: Tariff Amendment: 2020-01-30_SA 3385 OTP-Deuel Harvest Substitute FSA (J526) Hankinson-Wahpeton to be effective 2/3/2020.

Filed Date: 1/30/20.

Accession Number: 20200130-5112.

Comments Due: 5 p.m. ET 2/20/20.

Docket Numbers: ER20-906-000.

Applicants: Southwest Power Pool, Inc.

Description: § 205(d) Rate Filing: 2956R1 American Electric Power NITSA and NOA to be effective 1/1/2020.

Filed Date: 1/29/20.

Accession Number: 20200129-5151.

Comments Due: 5 p.m. ET 2/19/20.

Docket Numbers: ER20-907-000.

Applicants: Southwest Power Pool, Inc.

Description: § 205(d) Rate Filing: Revisions to Attachment AO to be effective 3/30/2020.

Filed Date: 1/29/20.

Accession Number: 20200129-5152.

Comments Due: 5 p.m. ET 2/19/20.

Docket Numbers: ER20-908-000.

Applicants: Grays Ferry Cogeneration Partnership.

Description: § 205(d) Rate Filing: Notice of Non-Material Change in Status & Request for NE Cat. 1 Seller Status to be effective 1/30/2020.

Filed Date: 1/29/20.

Accession Number: 20200129-5154.

Comments Due: 5 p.m. ET 2/19/20.

Docket Numbers: ER20-909-000.

Applicants: Kendall Green Energy LLC.

Description: § 205(d) Rate Filing: Notice of Non-Material Change in Status & Request for NE Cat. 1 Seller Status to be effective 1/30/2020.

Filed Date: 1/29/20.

Accession Number: 20200129-5155.

Comments Due: 5 p.m. ET 2/19/20.

Docket Numbers: ER20-910-000.

Applicants: Public Service Company of Colorado.

Description: Tariff Cancellation: Town of Center PPA—NOC Filing to be effective 4/1/2020.

Filed Date: 1/30/20.

Accession Number: 20200130-5057.

Comments Due: 5 p.m. ET 2/20/20.

Docket Numbers: ER20-911-000.

Applicants: Nevada Power Company.

Description: § 205(d) Rate Filing: Service Agreement No. 19-000.60 to be effective 1/1/2020.

Filed Date: 1/30/20.

Accession Number: 20200130-5058.

Comments Due: 5 p.m. ET 2/20/20.

Docket Numbers: ER20-912-000.

Applicants: Southwest Power Pool, Inc.

Description: § 205(d) Rate Filing: 607R36 Evergy Kansas Central, Inc. NITSA NOA to be effective 1/1/2020.

Filed Date: 1/30/20.

Accession Number: 20200130-5102.

Comments Due: 5 p.m. ET 2/20/20.

Docket Numbers: ER20-913-000.

Applicants: Southwest Power Pool, Inc.

Description: § 205(d) Rate Filing: 2142R3 Golden Spread Electric Cooperative, Inc. NITSA NOA to be effective 1/1/2020.

Filed Date: 1/30/20.

Accession Number: 20200130-5114.

Comments Due: 5 p.m. ET 2/20/20.

Docket Numbers: ER20-914-000.

Applicants: Mid-Atlantic Interstate Transmission, LLC, PJM Interconnection, L.L.C.

Description: § 205(d) Rate Filing: MAIT submits OIA SA No. 4577 to be effective 3/30/2020.

Filed Date: 1/30/20.

Accession Number: 20200130-5123.

Comments Due: 5 p.m. ET 2/20/20.

Docket Numbers: ER20-915-000.

Applicants: American Transmission Systems, Incorporated, PJM Interconnection, L.L.C.

Description: § 205(d) Rate Filing: ATSI submits 4 ECSAs, Service Agreement Nos. 5135, 5505, 5517, 5520 to be effective 3/30/2020.

Filed Date: 1/30/20.

Accession Number: 20200130-5125.

Comments Due: 5 p.m. ET 2/20/20.

Docket Numbers: ER20-916-000.

Applicants: Mid-Atlantic Interstate Transmission, LLC, PJM Interconnection, L.L.C.

Description: § 205(d) Rate Filing: MAIT submits OIA SA No. 4578 to be effective 3/30/2020.

Filed Date: 1/30/20.

Accession Number: 20200130-5126.

Comments Due: 5 p.m. ET 2/20/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 30, 2020.
Kimberly D. Bose,
Secretary.

[FR Doc. 2020-02287 Filed 2-5-20; 8:45 am]

BILLING CODE 6717-01-P